ENVIRONMENTAL PROTECTION AGENCY

40 CFR Part 52

[EPA-R03-OAR-2015-0040; FRL-9925-46-Region 3]

Approval and Promulgation of Air Quality Implementation Plans; Virginia; State Boards Requirements; Infrastructure Requirements for the 2008 Lead and Ozone and 2010 Nitrogen Dioxide and Sulfur Dioxide National Ambient Air Quality Standards

AGENCY: Environmental Protection Agency (EPA).

ACTION: Direct final rule.

SUMMARY: The Environmental Protection Agency (EPA) is taking direct final action to approve revisions to the Virginia State Implementation Plan (SIP). The revisions consist of adding a new regulation from the Virginia Administrative Code and a revised regulation which includes new, associated definitions. This rulemaking action also approves an infrastructure element directly related to the regulations being added for several previously submitted infrastructure SIPs for the 2008 Lead (Pb) National Ambient Air Quality Standards (NAAQS), the 2008 Ozone (O3) NAAQS, the 2010 Nitrogen Dioxide (NO2) NAAQS, and the 2010 Sulfur Dioxide (SO2) NAAQS. EPA is approving these revisions in accordance with the requirements of the Clean Air Act (CAA).

DATES: This rule is effective on June 1, 2015 without further notice, unless EPA receives adverse written comment by May 4, 2015. If EPA receives such comments, it will publish a timely withdrawal of the direct final rule in the Federal Register and inform the public that the rule will not take effect.

ADDRESSES: Submit your comments, identified by Docket ID Number EPA-R03-OAR-2015-0040 by one of the following methods:

A. www.regulations.gov. Follow the on-line instructions for submitting comments.

B. Email: powers.marilyn@epa.gov.

C. Mail: EPA-R03-OAR-2015-0040, Marilyn Powers, Acting Associate Director, Office of Air Program Planning, Air Protection Division, Mailcode 3AP30, U.S. Environmental Protection Agency, Region III, 1650 Arch Street, Philadelphia, Pennsylvania 19103.

D. Hand Delivery: At the previously-listed EPA Region III address. Such deliveries are only accepted during the Docket's normal hours of operation, and special arrangements should be made for deliveries of boxed information.

Instructions: Direct your comments to Docket ID No. EPA-R03-OAR-2015-0040. EPA's policy is that all comments received will be included in the public docket without change, and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy during normal business hours at the Air Protection Division, U.S. Environmental Protection Agency, Region III, 1650 Arch Street, Philadelphia, Pennsylvania 19103. Copies of the State submittal are available at the Virginia Department of Environmental Quality, 629 East Main Street, Richmond, Virginia 23219.

FOR FURTHER INFORMATION CONTACT: Ellen Schmitt, (215) 814-5787, or by email at schmitt.ellen@epa.gov.

SUPPLEMENTARY INFORMATION:

I. Background

Section 128 of the CAA requires SIPs to include certain requirements regarding State Boards; section 110(a)(2)(E)(ii) of the CAA also references these requirements. Section 128(a) requires SIPs to contain provisions that: (1) Any board or body which approves permits or enforcement orders under the CAA shall have at least a majority of its members represent the public interest and not derive any significant portion of their income from persons subject to permits or enforcement orders under the CAA; and (2) any potential conflict of interest by members of such board or body or the head of an executive agency with similar powers be adequately disclosed.

On December 22, 2014, the Virginia Department of Environmental Quality (VADEQ) submitted a formal revision to its SIP for the Commonwealth of Virginia. The SIP revision consists of adding a new regulation, 9VAC5-170-210(A), and adding new, associated definitions to 9VAC5-170-20, all of which pertain to the conflict of interest requirements of CAA sections 128 and 110(a)(2)(E)(ii) for all criteria pollutants of the NAAQS.

In addition, this rulemaking action approves the section 110(a)(2)(E)(ii) infrastructure element from the following Virginia infrastructure SIP submittals for each identified NAAQS: March 9, 2012 for the 2008 Pb NAAQS, July 23, 2012 for the 2008 O3 NAAQS, May 30, 2013 for 2010 NO2 NAAQS, and June 23, 2014 for the 2010 SO2 NAAQS (collectively, the Four Submittals). For the Four Submittals, EPA had previously approved those submittals as addressing certain requirements in section 110(a)(2) and specifically stated EPA would take later, separate action on the requirements in section 110(a)(2)(E)(ii) (which requires a state's SIP to meet the requirements of CAA section 128) for each of the NAAQS addressed.

II. Summary of SIP Revision

Virginia's December 22, 2014 SIP revision submittal consists of adding the new regulation, 9VAC5-170-210(A), and two new related definitions, “Disclosure form” and “Potential conflict of interest,” to 9VAC5-170-20. Regulation 9VAC5-170-210(A) requires that the board (referring to the State Air Pollution Control Board (SAPCB) or its designated representative) and the director (referring to the director of the VADEQ or a designated representative) shall adequately disclose any potential conflicts of interest. The regulation also requires that such disclosure be made annually, as required by section 2.2-3114 of the Code of Virginia, and through the applicable disclosure forms set forth in sections 2.2-3117 and 2.2-3118 of the Code of Virginia. The added regulation also states that all terms used in the disclosure forms shall retain their meaning as set forth under the Virginia State and Local Conflict of Interests Act (section 2.2-3100 et seq. of the Code of Virginia) which includes the disclosure forms previously described in sections 2.2-3117 and 2.2-3118 of the Code of Virginia. In the Commonwealth of Virginia, only the SAPCB and the director of VADEQ (or their respective designated representatives) have the power to approve CAA permits and enforcement orders.

III. The State Boards Requirements and EPA's Analysis of Virginia's Submittals

As previously stated, section 128 of the CAA requires that SIPs include provisions which provide: (1) Any board or body which approves permits or enforcement orders under the CAA have at least a majority of its members represent the public interest and not derive any significant portion of their income from persons subject to permits or enforcement orders under the CAA; and (2) any potential conflict of interest by members of such board or body or the head of an executive agency with similar powers be adequately disclosed.

For section 128(a)(1), Virginia previously submitted the provisions of Section 10.1-1302 of the Code of Virginia as a SIP revision on June 11, 2010; this SIP revision was subsequently approved by EPA on October 11, 2011. See 76 FR 62635.

To address requirements in section 128(a)(2), Virginia submitted the provisions of 9VAC5-170-210 on December 22, 2014. This regulation requires members of the SAPCB (or designated representatives) and the director of VADEQ (or a designated representative) to disclose any potential conflicts of interest. Virginia's regulation includes the board and the director (or their respective designated representatives) because only the SAPCB and the director have the authority to approve permits or enforcement orders under the CAA in Virginia. The regulation also requires that such disclosures be made annually through the applicable forms set forth in section 2.2-3100 et seq. of the Code of Virginia. Additionally, the SIP revision adds the terms “Disclosure form” and “Potential conflict of interest” to 9VAC5-170-20. “Disclosure form” is defined as the financial statement required by section 2.2-3114 of the Code of Virginia, which requires nonsalaried members of all policy and supervisory boards (including the SAPCB) and other persons occupying offices or positions of trust or employment in state government (including the director of VADEQ) to file the relevant disclosure form set forth in sections 2.2-3117 and 2.2-3118 in the Code of Virginia.

“Potential conflict of interest” is also newly defined in 9VAC5-170-20 as a “personal interest” per section 2.2-3101 of the Code of Virginia, which defines “personal interest” as a financial benefit or liability accruing to an officer, employee, or an immediate family member which includes: (1) Three percent or more ownership in a business, (2) annual income exceeding $5,000 from ownership in a property or business, (3) salary, other compensation, fringe benefits, or benefits from using the property paid by a business or governmental agency that exceed $5,000 annually, (4) ownership of a property exceeding $5,000 in value, excluding ownership in a business, income, salary, other compensation, fringe benefits, or benefits from using the property, (5) personal liability incurred on behalf of a business exceeding three percent of the business's asset value, or (6) an option for ownership of a business or property if the ownership will consist of numbers (1) or (4) above.

EPA finds that 9VAC5-170-210 and the revised definitions in 9VAC5-170-20 require members of Virginia's board and the head of Virginia's executive agency (both of which have powers to approve CAA permits or enforcement orders) to adequately disclose potential conflicts of interest. Thus, the December 22, 2014 SIP submittal addresses the requirements in section 128(a)(2).

IV. Infrastructure Requirements and EPA's Analysis of Virginia's Submittals

Whenever new or revised NAAQS are promulgated, the CAA requires states to submit a plan for the implementation, maintenance, and enforcement of such NAAQS. The plan is required to address basic program elements including, but not limited to, regulatory structure, monitoring, modeling, legal authority, and adequate resources necessary to assure attainment and maintenance of the standards. These elements are referred to as infrastructure requirements. In particular, the infrastructure requirements of section 110(a)(2)(E)(ii) require that each state's SIP meet the requirements of section 128.

On the following dates, and for the applicable NAAQS, Virginia submitted infrastructure SIP submittals to meet the requirements of CAA section 110(a)(2): March 9, 2012 for the 2008 Pb NAAQS, July 23, 2012 for the 2008 O3 NAAQS, May 30, 2013 for the 2010 NO2 NAAQS, and June 23, 2014 for the 2010 SO2 NAAQS.

EPA has approved these submittals as meeting certain requirements or elements in section 110(a)(2) for the applicable NAAQS but has stated in each of these approvals that EPA would take later, separate action for requirements in section 110(a)(2)(E)(ii).¹ See 78 FR 58462 (September 24, 2013) (2008 Pb NAAQS), 79 FR 17043 (March 27, 2014) (2008 O3 NAAQS), 79 FR 15012 (March 18, 2014) (2010 NO2 NAAQS), and 80 FR 11557 (March 4, 2015) (2010 SO2 NAAQS). See EPA's proposed approvals of Virginia's infrastructure SIPs for the 2008 O3 NAAQS and the 2010 NO2 and SO2 NAAQS for a discussion of EPA's approach to reviewing infrastructure SIPs, including EPA's longstanding interpretation of the following: Requirements for section 110(a)(1) and (2); EPA's interpretation that the CAA allows states to make multiple SIP submissions separately addressing infrastructure SIP elements in section 110(a)(2) for a specific NAAQS; and the interpretation that EPA has the ability to act on separate elements of 110(a)(2) for a NAAQS in separate rulemaking actions. 78 FR 39671 (July 2, 2013) (2008 O3 NAAQS), 78 FR 47264 (August 5, 2013) (2010 NO2 NAAQS), and 79 FR 49731 (August 22, 2014) (2010 SO2 NAAQS).

¹ EPA has also taken separate action to approve the prevention of significant deterioration portions of section 110(a)(2)(C), (D)(i)(II), and (J) for the Virginia submittals for three of these NAAQS. See 79 FR 10377 (February 25, 2014) (2008 Pb NAAQS) and 79 FR 58682 (September 30, 2014) (2008 O3 NAAQS and 2010 NO2 NAAQS).

With the December 22, 2014 SIP submittal from Virginia, EPA finds that the Virginia SIP adequately addresses all requirements in CAA section 128 and section 110(a)(2)(E)(ii).² Thus, EPA is now approving the section 110(a)(2)(E)(ii) infrastructure element for the Four Submittals for the 2008 Pb, 2008 O3, 2010 NO2, and 2010 SO2 NAAQS.

² As noted previously, the Virginia SIP already includes a provision which addresses section 128(a)(1). See 76 FR 62635.

V. Final Action

EPA is approving Virginia's December 22, 2014 SIP revision that addresses the requirements of sections 128 and 110(a)(2)(E)(ii) of the CAA for all criteria pollutants of the NAAQS. EPA is also specifically approving the following Virginia submittals as addressing the requirements in section 110(a)(2)(E)(ii) of the CAA: The March 9, 2012 submittal for the 2008 Pb NAAQS, the July 23, 2012 submittal for the 2008 O3 NAAQS, the May 30, 2013 submittal for the 2010 NO2 NAAQS, and the June 23, 2014 submittal for the 2010 SO2 NAAQS. EPA is publishing this rule without prior proposal because EPA views this as a noncontroversial amendment and anticipates no adverse comment. However, in the “Proposed Rules” section of today's Federal Register, EPA is publishing a separate document that will serve as the proposal to approve the SIP revision if adverse comments are filed. This rule will be effective on June 1, 2015 without further notice unless EPA receives adverse comment by May 4, 2015. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

VI. General Information Pertaining to SIP Submittals From the Commonwealth of Virginia

In 1995, Virginia adopted legislation that provides, subject to certain conditions, for an environmental assessment (audit) “privilege” for voluntary compliance evaluations performed by a regulated entity. The legislation further addresses the relative burden of proof for parties either asserting the privilege or seeking disclosure of documents for which the privilege is claimed. Virginia's legislation also provides, subject to certain conditions, for a penalty waiver for violations of environmental laws when a regulated entity discovers such violations pursuant to a voluntary compliance evaluation and voluntarily discloses such violations to the Commonwealth and takes prompt and appropriate measures to remedy the violations. Virginia's Voluntary Environmental Assessment Privilege Law, Va. Code Sec. 10.1-1198, provides a privilege that protects from disclosure documents and information about the content of those documents that are the product of a voluntary environmental assessment. The Privilege Law does not extend to documents or information that: (1) Are generated or developed before the commencement of a voluntary environmental assessment; (2) are prepared independently of the assessment process; (3) demonstrate a clear, imminent and substantial danger to the public health or environment; or (4) are required by law.

On January 12, 1998, the Commonwealth of Virginia Office of the Attorney General provided a legal opinion that states that the Privilege Law, Va. Code § 10.1-1198, precludes granting a privilege to documents and information “required by law,” including documents and information “required by Federal law to maintain program delegation, authorization or approval,” since Virginia must “enforce Federally authorized environmental programs in a manner that is no less stringent than their Federal counterparts . . .” The opinion concludes that “[r]egarding § 10.1-1198, therefore, documents or other information needed for civil or criminal enforcement under one of these programs could not be privileged because such documents and information are essential to pursuing enforcement in a manner required by Federal law to maintain program delegation, authorization or approval.” Virginia's Immunity law, Va. Code Sec. 10.1-1199, provides that “[t]o the extent consistent with requirements imposed by Federal law,” any person making a voluntary disclosure of information to a state agency regarding a violation of an environmental statute, regulation, permit, or administrative order is granted immunity from administrative or civil penalty. The Attorney General's January 12, 1998 opinion states that the quoted language renders this statute inapplicable to enforcement of any Federally authorized programs, since “no immunity could be afforded from administrative, civil, or criminal penalties because granting such immunity would not be consistent with Federal law, which is one of the criteria for immunity.”

Therefore, EPA has determined that Virginia's Privilege and Immunity statutes will not preclude the Commonwealth from enforcing its program consistent with the Federal requirements. In any event, because EPA has also determined that a state audit privilege and immunity law can affect only state enforcement and cannot have any impact on Federal enforcement authorities, EPA may at any time invoke its authority under the CAA, including, for example, sections 113, 167, 205, 211 or 213, to enforce the requirements or prohibitions of the state plan, independently of any state enforcement effort. In addition, citizen enforcement under section 304 of the CAA is likewise unaffected by this, or any, state audit privilege or immunity law.

VII. Incorporation by Reference

In this rule, the EPA is finalizing regulatory text that includes incorporation by reference. In accordance with requirements of 1 CFR 51.5, the EPA is finalizing the incorporation by reference of 9VAC5-170-210 and related definitions of 9VAC5-170-20 (both regarding disclosure of conflict of interests), with a state effective date of November 19, 2014. These regulations are discussed in section III of this preamble. The EPA has made, and will continue to make, these documents generally available electronically through www.regulations.gov and/or in hard copy at the appropriate EPA office (see the ADDRESSES section of this preamble for more information).

VIII. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by June 1, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking action. This action, approving regulations meeting section 128 and approving the infrastructure element E(ii) for four Virginia NAAQS submittals, may not be challenged later in proceedings to enforce its requirements. (See section 307(b)(2).)

List of Subjects in 40 CFR Part 52

Environmental protection, Air pollution control, Incorporation by reference, Lead, Nitrogen dioxide, Ozone, Reporting and recordkeeping requirements, Sulfur oxides.

Dated: March 13, 2015.
William C. Early,
Acting Regional Administrator, Region III.

Therefore, 40 CFR part 52 is amended as follows:

PART 52—APPROVAL AND PROMULGATION OF IMPLEMENTATION PLANS

1. The authority citation for part 52 continues to read as follows:

Authority: 42 U.S.C. 7401 et seq.

Subpart VV—Virginia

2. In § 52.2420:

a. In the table in paragraph (c), revise the entry for “Section 5-170-20.”

b. In the table in paragraph (c), add the heading “Part IX Conflict of Interest” and the entry for “Section 5-170-210” in numerical order.

c. In the table in paragraph (e), revise the entries for “Section 110(a)(2) Infrastructure Requirements for the 2008 Lead NAAQS,” “Section 110(a)(2) Infrastructure Requirements for the 2010 Nitrogen Dioxide NAAQS,” “Section 110(a)(2) Infrastructure Requirements for the 2008 Ozone NAAQS,” and “Section 110(a)(2) Infrastructure Requirements for the 2010 Sulfur Dioxide NAAQS.”

The revisions and addition reads as follows:

§ 52.2420 Identification of plan.

* * * * *

(c) * * *

EPA-Approved Virginia Regulations and Statutes
State citation | Title/subject | State effective date | EPA approval date | Explanation [former SIP citation]
* * * * * * *
9 VAC 5, Chapter 170 Regulation for General Administration
Part I Definitions
* * * * * * *
5-170-20 | Terms Defined | 11/19/14 | 4/2/15 [Insert Federal Register citation] | Docket #2015-0040. Revised to add the terms disclosure form and potential conflict of interest.
* * * * * * *
Part IX Conflict of Interest
5-170-210 | General | 11/19/14 | 4/2/15 [Insert Federal Register citation] | Docket #2015-0040. Does not include subsection B
* * * * * * *

* * * * *

(e) * * *

Name of non-regulatory SIP revision | Applicable geographic area | State submittal date | EPA approval date | Additional explanation
* * * * * * *
Section 110(a)(2) Infrastructure Requirements for the 2008 Lead NAAQS | Statewide | 3/9/12 | 9/24/13, 78 FR 58462 | Docket #2012-0451. This action addresses the following CAA elements or portions thereof: 110(a)(2)(A), (B), (C) (for enforcement and regulation of minor sources), (D)(i)(I), (D)(i)(II) (for the visibility protection portion), (D)(ii), (E)(i), (E)(iii), (F), (G), (H), (J), (K), (L), and (M).
|  | 3/9/12 | 2/25/14, 79 FR 10377 | Docket #2011-0927. This action addresses the following CAA elements, or portions thereof: 110(a)(2)(C), (D)(i)(II), and (J) with respect to the PSD elements.
|  | 12/22/14 | 4/2/15 [Insert Federal Register citation] | Docket #2015-0040. Addresses CAA element 110(a)(2)(E)(ii).
* * * * * * *
Section 110(a)(2) Infrastructure Requirements for the 2010 Nitrogen Dioxide NAAQS | Statewide | 5/30/13 | 3/18/14, 79 FR 15012 | Docket #2013-0510. This action addresses the following CAA elements, or portions thereof: 110(a)(2) (A), (B), (C), (D)(i)(II), (D)(ii), (E)(i), (E)(iii), (F), (G), (H), (J), (K), (L), and (M) with the exception of PSD elements.
|  | 5/30/13 | 9/30/14, 79 FR 58686 | Docket #2013-0510. This action addresses the following CAA elements, or portions thereof: 110(a)(2)(C), (D)(i)(II), and (J) with respect to the PSD elements.
|  | 12/22/14 | 4/2/15 [Insert Federal Register citation] | Docket #2015-0040. Addresses CAA element 110(a)(2)(E)(ii).
Section 110(a)(2) Infrastructure Requirements for the 2008 Ozone NAAQS | Statewide | 7/23/12 | 3/27/14, 79 FR 17043 | Docket #2013-0211. This action addresses the following CAA elements, or portions thereof: 110(a)(2) (A), (B), (C), (D)(i)(II), (D)(ii), (E)(i), (E)(iii), (F), (G), (H), (J), (K), (L), and (M) with the exception of PSD elements.
|  | 7/23/12 | 9/30/14, 79 FR 58686 | Docket #2013-0211. This action addresses the following CAA elements, or portions thereof: 110(a)(2)(C), (D)(i)(II), and (J) with respect to the PSD elements.
|  | 12/22/14 | 4/2/15 [Insert Federal Register citation] | Docket #2015-0040. Addresses CAA element 110(a)(2)(E)(ii).
* * * * * * *
Section 110(a)(2) Infrastructure Requirements for the 2010 Sulfur Dioxide NAAQS | Statewide | 6/18/14 | 3/4/15, 80 FR 11557 | Docket #2014-0522. This action addresses the following CAA elements, or portions thereof: 110(a)(2) (A), (B), (C), (D)(i)(II)(PSD), (D)(ii), (E)(i), (E)(iii), (F), (G), (H), (J)(consultation, notification, and PSD), (K), (L), and (M).
|  | 12/22/14 | 4/2/15 [Insert Federal Register citation] | Docket #2015-0040. Addresses CAA element 110(a)(2)(E)(ii).

[FR Doc. 2015-07372 Filed 4-1-15; 8:45 am]

BILLING CODE 6560-50-P